DEPARTMENT OF HOMELAND SECURITY

Coast Guard

[USCG-2010-1116]

Houston/Galveston Navigation Safety Advisory Committee; Meetings

AGENCY: Coast Guard, DHS.

ACTION: Notice of Meetings.

SUMMARY: The Houston/Galveston Navigation Safety Advisory Committee (“HOGANSAC” or “the Committee”) and its working groups will meet in Texas City, Texas and Houston, Texas to discuss waterway improvements, aids to navigation, area projects impacting safety on the Houston Ship Channel, and various other navigation safety matters in the Galveston Bay area. These meetings will be open to the public.

DATES: The Committee will meet on Thursday February 3, 2011 from 9 a.m. to noon. The Committee's working groups will meet on Thursday January 20, 2011 from 9 a.m. to noon. These meetings may close early if all business is finished. Written material and requests to make oral presentations should reach the Coast Guard on or before January 19, 2011. Requests to have a copy of your material distributed to each member of the committee or subcommittee should reach the Coast Guard on or before January 19, 2011.

ADDRESSES: The Committee will meet on February 3, 2011 at U.S. Coast Guard Marine Safety Unit Texas City, 3101 FM 2004, Texas City, Texas 77591. The working groups will meet January 20, 2011 at West Gulf Maritime Association (WGMA) offices, 1717 East Loop, Suite 200, Houston, Texas 77029. Send written material and requests to make oral presentations to Commander Michael Zidik, Assistant Designated Federal Officer (ADFO) of HOGANSAC. This notice and documents identified in the SUPPLEMENTARY INFORMATION section as being available in the docket may be viewed in our online docket, USCG-2010-1116, at http://www.regulations.gov.

FOR FURTHER INFORMATION CONTACT: If you have questions concerning the meeting, please call or e-mail Lieutenant Junior Grade Margaret Brown, Waterways Management Branch, Coast Guard; telephone 713-678-9001, e-mail Margaret.A.Brown@uscg.mil. If you have questions on viewing or submitting material to the docket, call Renee V. Wright, Program Manager, Docket Operations, telephone 202-366-9826.

SUPPLEMENTARY INFORMATION: Notice of these meetings is given under the Federal Advisory Committee Act, 5 U.S.C. App. (Pub. L. 92-463).

Agenda of Meetings

Houston/Galveston Navigation Safety Advisory Committee (HOGANSAC)

The tentative agenda for the Committee is as follows:

(1) Opening Remarks by the Designated Federal Officer (CAPT Woodring) and Committee Chair (Mrs. Tava Foret).

(2) Approval of September 23, 2010 minutes.

(3) Old Business.

(a) Navigation Operations subcommittee report;

(b) Dredging subcommittee report;

(c) Technology subcommittee report;

(d) Waterways Safety and Utilization subcommittee report;

(e) Commercial Recovery Contingency (CRC) subcommittee report;

(f) HOGANSAC Outreach subcommittee report;

(g) State of the Waterway report;

(h) Area Maritime Security Committee (AMSC) Liaison's report.

(4) New Business.

(a) Discussion on 2011 AMSC/HSC Conference.

(b) Action items recommended for consideration by a Working Group.

(5) Announcements.

(a) Schedule Next Meetings.

Working Groups Meeting. The tentative agenda for the working groups meeting is as follows:

(1) Presentation by each working group of its accomplishments and plans for the future;

(2) Review and discuss the work completed by each working group;

(3) Put forth any action items for consideration at full committee meeting.

Procedural

Both meetings are open to the public. Please note that the meetings may close early if all business is finished. At the Chairs' discretion, members of the public may make oral presentations during the meetings. If you would like to make an oral presentation at a meeting, please notify the ADFO no later than January 19, 2011. Written material for distribution at a meeting should reach the Coast Guard no later than January 19, 2011. If you would like a copy of your material distributed to each member of the committee or subcommittee in advance of a meeting, please submit 15 copies to the ADFO no later than January 19, 2011.

Information on Services for Individuals With Disabilities

For information on facilities or services for individuals with disabilities or to request special assistance at the meetings, contact Lieutenant Junior Grade Margaret Brown as soon as possible.

Dated: December 28, 2010.
M.E. Woodring,
Captain, U.S. Coast Guard, Commander, Sector Houston-Galveston.

[FR Doc. 2011-1023 Filed 1-13-11; 4:15 pm]

BILLING CODE 9110-04-P